DEPARTMENT OF TRANSPORTATION

Federal Aviation Administration

14 CFR Parts 119, 121 and 135

[Docket No. FAA-2003-15571; Amdt. Nos. 119-8, 121-298 and 135-88]

RIN 2120-AI00

DOD Commercial Air Carrier Evaluators; Correction

AGENCY: Federal Aviation Administration (FAA), DOT.

ACTION: Final rule; correction.

SUMMARY: This document makes a correction to the amendment numbers in the final rule published in the Federal Register on July 10, 2003. That rule clarified existing regulations as they apply to Department of Defense (DOD) commercial air carrier evaluators.

EFFECTIVE DATE: This correction is effective on February 11, 2004.

FOR FURTHER INFORMATION CONTACT: Lt. Col. Tom Barrale, USAF, Department of Defense Air Mobility Command Liaison Officer to FAA Flight Standards Service, (202) 267-7088.

Correction

In the final rule FR Doc. 03-17459 published on July 10, 2003, (68 FR 41214), make the following corrections:

1. On page 41214, in column 3, in the heading section of the rule at the bottom of the page, beginning on line 4 of the heading, correct “Amdt Nos. 119-8, 121-286, and 135-83” to read “Amdt Nos. 119-8, 121-298, and 135-88”.

Issued in Washington, DC, on January 30, 2004.
Donald P. Byrne,
Assistant Chief Counsel for Regulations.

[FR Doc. 04-2874 Filed 2-10-04; 8:45 am]

BILLING CODE 4910-13-P